DEPARTMENT OF AGRICULTURE

Natural Resources Conservation Service

Federal Grants and Cooperative Agreements

AGENCY: Natural Resources Conservation Service, USDA.

ACTION: Notice of training conference.

SUMMARY: The Natural Resources Conservation Service (NRCS) is announcing a forthcoming training conference for Federal Grants and Cooperative and Contribution Agreements. Special emphasis will be placed on clarifying the grants and agreements process with emphasis on the competitive process.

DATES: The training conference date is: April 26-30, 2004, 8 a.m. to 5 p.m. A block of rooms has been reserved under USDA/NRCS at the Sheraton New Orleans Hotel, 500 Canal Street, New Orleans, Louisiana, telephone: 1-888-627-7033, on a first come first serve basis. The Marriott New Orleans Hotel (directly across the street), 550 Canal Street, New Orleans, Louisiana, telephone 1-888-364-1200 will become the overflow hotel site. A room rate has been set at $146.00 and all reservations must be guaranteed by April 2, 2004.

ADDRESSES: The training conference will take place at the Sheraton New Orleans Hotel, 500 Canal Street, New Orleans, Louisiana, telephone: 1-888-627-7033.

FOR FURTHER INFORMATION CONTACT: Questions or comments should be directed to Edward Biggers, Jr., Director, Management Services Division, telephone: (202) 720-4102; fax: (202) 720-7149; e-mail: Edward.biggers@usda.gov or Rosann Durrah, telephone: (202) 720-4072; fax: (202) 690-0639; e-mail: Rosann.durrah@usda.gov.

SUPPLEMENTARY INFORMATION: Notice of this conference is given under the Federal Grant and Cooperative Agreement Act of 1977, 31 U.S.C. 6301-6308. The conference is designed for leaders, administrators, partners, non-government officials, program managers, specialists, management analysts, and others involved with operations, agreements/grants, evaluations, administration, decision process, auditing, program management, budgeting, contracting, and program delivery. Participants will learn: Competing Grants and Agreements, Contribution Agreements, Authorities, Policies, and Earmarks, Roles and Responsibilities, and Cost Analysis and Evaluation of Proposals.

Dated: March 8, 2004.
Helen V. Huntington,
Federal Register Liaison, Natural Resources Conservation Service.

[FR Doc. 04-5555 Filed 3-10-04; 8:45 am]

BILLING CODE 3410-16-P